ARCHITECTURAL AND TRANSPORTATION BARRIERS COMPLIANCE BOARD

36 CFR Parts 1193 and 1194

[Docket No. ATBCB-2015-0002]

RIN 3014-AA37

Information and Communication Technology (ICT) Standards and Guidelines

AGENCY: Architectural and Transportation Barriers Compliance Board.

ACTION: Notice of hearing.

SUMMARY: The Architectural and Transportation Barriers Compliance Board (Access Board) will hold a public hearing on its recent Information and Communication Technology (ICT) Standards and Guidelines Notice of Proposed Rulemaking.

DATES: The hearing will be held on April 29, 2015, from 4:00 p.m. to 5:00 p.m., Salt Lake City, UT. To preregister to testify at the hearing, contact Kathy Johnson at (202) 272-0041 (voice), (202) 272-0082 (TTY), or johnson@access-board.gov.

ADDRESSES: The hearing will be held at the Division of Services for the Blind and Visually Impaired, 250 North 1950 West #B, Salt Lake City, UT 84101.

FOR FURTHER INFORMATION CONTACT: Timothy Creagan, Access Board, 1331 F Street NW., Suite 1000, Washington, DC 20004-1111. Telephone: (202) 272-0016 (voice) or (202) 272-0074 (TTY). Email address: 508@access-board.gov.

SUPPLEMENTARY INFORMATION: On February 27, 2015, the Access Board published a notice of proposed rulemaking in the Federal Register to update its guidelines for telecommunications equipment covered by Section 255 of the Communications Act and its standards for electronic and information technology covered by Section 508 of the Rehabilitation Act (80 FR 10880, February 27, 2015). The comment period closes on May 28, 2015.

The Board has already held two public hearings. The first hearing was in San Diego, CA in conjunction with the 30th Annual International Technology and Persons with Disabilities Conference (CSUN Conference); the second hearing was in Washington, DC during the Access Board's March 2015 Board meeting. The Access Board is adding a third hearing in Salt Lake City. Witnesses can only testify in person. All comments from this and prior hearings will be included in the rulemaking docket.

The hearing will be accessible to persons with disabilities. An assistive listening system, communication access real-time translation, and sign language interpreters will be provided. Persons attending the hearing are requested to refrain from using perfume, cologne, and other fragrances for the comfort of other participants (see http://www.access-board.gov/the-board/policies/fragrance-free-environment for more information). More information and any updates to the hearings will be posted on the Access Board's Web site at http://www.access-board.gov/ictrefresh.

David M. Capozzi,
Executive Director.

[FR Doc. 2015-07609 Filed 4-2-15; 8:45 am]

BILLING CODE 8150-01-P